DEPARTMENT OF ENERGY

Federal Energy Regulatory Commission

[Project No. 13101-000]

Barrington Hydro LLC; Notice of Preliminary Permit Application Accepted for Filing and Soliciting Comment, Motions To Intervene, and Competing Applications

September 19, 2008.

On January 23, 2008, Barrington Hydro LLC filed an application, pursuant to section 4(f) of the Federal Power Act, proposing to study the feasibility of the Barrington Hydroelectric Project to be located in Berkshire County, Massachusetts.

The proposed project consists of: (1) An existing 22-foot high 130-foot-long concrete and timber crib dam; (2) a proposed reservoir having a normal maximum water surface elevation of 716 feet (ngvd) and a surface area of 40 acres, with negligible storage capacity; (3) an existing 190-foot-long, 14-foot diameter concrete penstock; (4) a proposed powerhouse with two generating units having a total capacity of 1,100 KW; (5) a proposed 450-foot-long, 24-KV transmission line; and (6) appurtenant facilities. The project would have an annual generation of 4,300 MWh, and would be sold to a local utility.

Applicant Contact: Mr. Robert Munch, Barrington Hydro LLC, P.O. Box 1854 Lenox, MA 01240, Phone: 323-481-4460. FERC Contact: Henry Woo, 202-502-8872.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13101) in the docket number field to access the document. For assistance, call toll-free 1-866-208-3372.

Kimberly D. Bose,
Secretary.

[FR Doc. E8-22619 Filed 9-25-08; 8:45 am]

BILLING CODE 6717-01-P